DEPARTMENT OF DEFENSE

Department of the Navy

Information on Surplus Land at a Military Installation Designated for Disposal: Navy-Marine Corps Reserve Center, Tacoma, WA

AGENCY: Department of the Navy, DoD.

ACTION: Notice.

SUMMARY: This notice provides information on the surplus property at Navy-Marine Corps Reserve Center Tacoma, WA.

FOR FURTHER INFORMATION CONTACT: Ms. Kimberly Kesler, Director, Base Realignment and Closure Program Management Office, 1455 Frazee Road, San Diego, CA 92108-4310, telephone 619-532-0993; or Ms. Laura Duchnak, Director, Base Realignment and Closure Program Management Office West, 1455 Frazee Road, San Diego, CA 92108-4310, telephone 619-532-0994.

SUPPLEMENTARY INFORMATION: In 2005, Navy-Marine Corps Reserve Center Tacoma was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property. Pursuant to paragraph (7)(B) of Section 2905(b) of the Act, as amended by the Base Closure Community Redevelopment and Homeless Assistance Act of 1994, the following information regarding the surplus property at Navy-Marine Corps Reserve Center Tacoma, WA is published in the Federal Register.

Surplus Property Description. The following is a list of the land and facilities at Navy-Marine Corps Reserve Center Tacoma, WA that are surplus to the needs of the Federal Government.

a. Land. Navy-Marine Corps Reserve Center Tacoma, WA consists of approximately 9.03 acres of improved and unimproved land located within Pierce County and the City of Tacoma. In general, all areas will be available when the installation closes in 2010.

b. Buildings. The following is a summary of the buildings and other improvements located on the above-described land that will also be available when the installation closes. Property numbers are available on request.

(1) Reserve Training Building that includes administrative & office facilities. Comments: Approximately 35,622 square feet.

(2) Reserve Training Building (Cargo Handling Unit). Comments: Approximately 19,610 square feet.

(3) Garage and Shops. Comments: Approximately 6,120 square feet.

(4) Berthing Pier Facilities that provide access to the Hylebos Waterway. Comments: Approximately 6,304 square feet.

(5) Miscellaneous facilities including heating plant, damage control building, antennas, paved roads and parking areas, sidewalks, fencing, and utility infrastructure.

Dated: May 3, 2006.
Eric McDonald,
Lieutenant Commander, Judge Advocate General's Corps, U.S. Navy, Federal Register Liaison Officer.

[FR Doc. E6-7075 Filed 5-9-06; 8:45 am]

BILLING CODE 3810-FF-P